DEPARTMENT OF TRANSPORTATION (DOT)

Federal Aviation Administration

14 CFR Part 39

[Docket No. FAA-2005-21175; Directorate Identifier 2005-CE-24-AD]

RIN 2120-AA64

Airworthiness Directives; Raytheon Aircraft Company Models 58P and 58TC Airplanes

AGENCY: Federal Aviation Administration (FAA), DOT.

ACTION: Notice of proposed rulemaking (NPRM).

SUMMARY: The FAA proposes to adopt a new airworthiness directive (AD) for certain Raytheon Aircraft Company (Raytheon) Models 58P and 58TC airplanes used as a lead airplane by the United States Forest Service. This proposed AD would require you to insert a new supplement into the Limitations Section of the Pilot's Operating Handbook and Airplane Flight Manual (POH/AFM) that establishes new limits for the structural life of the airframe (wing, fuselage, empennage, or associated structure); and dispose of the life-limited airframe following 14 CFR 43.10 when the limit of the structural life of the airframe is reached. This proposed AD results from Raytheon issuing a POH/AFM supplement that establishes the structural life limit of 4,500 hours time-in-service (TIS) for the airframe (wing, fuselage, empennage, and associated structure) for any Models 58P and 58TC airplanes used as a lead airplane by the United States Forest Service; and FAA's determination that the structural life limit is necessary. We are issuing this proposed AD to prevent cumulative fatigue damage and fatigue cracking damage that would sufficiently reduce residual strength of the airframe and result in failure. Failure of the airframe (wing, fuselage, empennage, or associated structure) could lead to loss of control of the airplane.

DATES: We must receive any comments on this proposed AD by January 23, 2006.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Raytheon Aircraft Company, P.O. Box 85, Wichita, Kansas 67201-0085; telephone: (800) 429-5372 or (316) 676-3140.

To view the comments to this proposed AD, go to http://dms.dot.gov. The docket number is FAA-2005-21175; Directorate Identifier 2005-CE-24-AD.

FOR FURTHER INFORMATION CONTACT: Steven E. Potter, Aerospace Engineer, Wichita Aircraft Certification Office (ACO), FAA, 1801 Airport Road, Wichita, Kansas 67209; telephone: (316) 946-4124; facsimile: (316) 946-4107.

SUPPLEMENTARY INFORMATION:

Comments Invited

How do I comment on this proposed AD? We invite you to submit any written relevant data, views, or arguments regarding this proposal. Send your comments to an address listed under ADDRESSES. Include the docket number, “FAA-2005-21175; Directorate Identifier 2005-CE-24-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-21175; Directorate Identifier 2005-CE-24-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The type certificate of the Models 58P and 58TC airplanes establishes (in the Limitations Section of the FAA Approved Airplane Flight Manual) a structural life limit of 10,000 hours time-in-service (TIS). This life limit was established by using the standard and expected usage for normal twin-engine usage envelopes and industry standard approaches for fatigue testing and analysis, structural fatigue analysis reports, ground structural fatigue test reports, and flight test fatigue spectrum monitoring reports.

The United States Forest Service (USFS) bought the 21 airplanes identified in this NPRM for use as lead airplanes for the forest firefighting mission. Operation in the lead airplane firefighting mission is a more severe usage than the normal usage of twin-engine aircraft.

In October 2004, the USFS informed FAA that it was to dispose of these airplanes through the General Services Administration (GSA).

In January 2005, Raytheon issued a supplement for the Limitations Section of the Pilot's Operating Handbook and Airplane Flight Manual (POH/AFM) that reduces the original type certification structural fatigue life limit to 4,500 hours TIS. The latest revisions of the analytical reports by Raytheon and USFS are dated July 1984.

The FAA has determined that if flight operations continue beyond 4,500 hours TIS, then the cumulative fatigue damage on these airplanes will reach a point at which fatigue cracking might occur. This damage will reduce residual strength and deplete all useful service life.

Operation of these airplanes in a severe fatigue-loading spectrum accelerates the cumulative fatigue damage. This higher fatigue damage accumulation rate experienced by the USFS (operation in the lead airplane firefighting mission) is higher than normal usage and results in a shorter life limit. The severity of the usage by the USFS reduced the structural life limit.

The Service Difficulty Reports (SDR) database indicates some wing skin cracking, pressure bulkhead cracking, and cracking in both the vertical and horizontal stabilizers. A significant number of these cracking occurrences were on the subject airplanes. We believe that the SDR database does not reflect all such occurrences on the subject airplanes.

What is the potential impact if FAA took no action? Cumulative fatigue damage causing fatigue cracking damage would sufficiently reduce the residual strength of the airframe. Failure of the airframe (wing, fuselage, empennage, or associated structure) could lead to failure with a consequent loss of control of the airplane.

Is there service information that applies to this subject? Raytheon has issued Beechcraft Model 58P/58PA and Model 58TC/58TCA Pilot's Operating Handbook and FAA Approved Airplane Flight Manual (POH/AFM) Supplement, part number (P/N) 102-590000-67, issued January 2005.

This supplement affects Models 58P and 58TC airplanes used as a lead airplane by the USFS with these serial numbers: TJ-177, TJ-178, TJ-180, TJ-211, TJ-213, TJ-247, TJ-284, TJ-285, TJ-289, TJ-290, TJ-314, TJ-322, TJ-367, TJ-368, TJ-370, TJ-371, TJ-425, TJ-426, TJ-433, TJ-442, and TK-33.

FAA's Determination and Requirements of This Proposed AD

What has FAA decided? We have evaluated all pertinent information and identified an unsafe condition that is likely to exist or develop on other products of this same type design. For this reason, we are proposing AD action.

What would this proposed AD require? This proposed AD would require you to:

—Insert the Raytheon Aircraft Company Beechcraft Model 58P/58PA and Model 58TC/58TCA POH/AFM Supplement, part number (P/N) 102-590000-67, issued January 2005, into the Limitations Section of the POH/AFM (P/N 102-590000-41 or 106-590000-5). This limits the structural life of the airframe (wing, fuselage, empennage, and associated structure) to 4,500 hours time-in-service (TIS); and

—Dispose of the life-limited airframe (wing, fuselage, empennage, and associated structure) following 14 CFR 43.10 when the limit (4,500 hours TIS) of the structural life of the airframe is reached.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 21 airplanes in the U.S. registry.

What would be the cost impact of this proposed AD on owners/operators of the affected airplanes? We estimate the following costs to incorporate the Raytheon Aircraft Company Beechcraft Model 58P/58PA and Model 58TC/58TCA POH/AFM Supplement into the POH/AFM:

Labor cost | Parts cost | Total cost per airplane | Total cost on U.S. operators
1 work hour × $65 per hour = $65 | Not applicable | $65 | $1,365

We estimate the cost to dispose of the life-limited airframe (wing, fuselage, empennage, and associated structure) following 14 CFR 43.10 (when the limit of the structural life of the airframe is reached) to be the cost of each airplane.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “Docket No. FAA-2005-21175; Directorate Identifier 2005-CE-24-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. FAA-2005-21175; Directorate Identifier 2005-CE-24-AD.

When Is the Last Date I Can Submit Comments on This Proposed AD?

(a) We must receive comments on this proposed airworthiness directive (AD) by January 23, 2006.

What Other ADs Are Affected by This Action?

(b) None.

What Airplanes Are Affected by This AD?

(c) This AD affects Models 58P and 58TC airplanes, with the following serial numbers: TJ-177, TJ-178, TJ-180, TJ-211, TJ-213, TJ-247, TJ-284, TJ-285, TJ-289, TJ-290, TJ-314, TJ-322, TJ-367, TJ-368, TJ-370, TJ-371, TJ-425, TJ-426, TJ-433, TJ-442, and TK-33, that are certificated in any category. These airplanes were utilized as lead airplanes by the United States Forest Service for firefighting missions.

What Is the Unsafe Condition Presented in This AD?

(d) This AD is the result of Raytheon issuing a Pilot's Operating Handbook and FAA Approved Airplane Flight Manual (POH/AFM) Supplement that establishes the structural life of 4,500 hours time-in-service (TIS) for the airframe (wing, fuselage, empennage, and associated structure), and FAA's determination that the structural life is necessary. The actions specified in this AD are intended to prevent cumulative fatigue damage and fatigue cracking damage that would sufficiently reduce residual strength of the airframe and result in failure. Failure of the airframe (wing, fuselage, empennage, or associated structure) could lead to loss of control of the airplane.

What Must I Do To Address This Problem?

(e) To address this problem, you must do the following:

Actions | Compliance | Procedures
(1) Insert the Raytheon Aircraft Company Beechcraft Model 58P/58PA and Model 58TC/58TCA Pilot's Operating Handbook and FAA Approved Airplane Flight Manual (POH/AFM) Supplement, part number (P/N) 102-590000-67, issued January 2005, into the POH/AFM (P/N 102-590000-41 or 106-590000-5). The Limitations Section limits the structural life of the airframe (wing, fuselage, empennage, and associated structure) to 4,500 hours time-in-service (TIS) | Upon the accumulation of 4,500 hours TIS on the airframe (wing, fuselage, empennage, or associated structure) or prior to further flight, whichever occurs later, unless already done | The owner/operator holding at least a private pilot certificate as authorized by section 43.7 of the Federal Aviation Regulations (14 CFR 43.7) may modify the POH as specified in paragraph (e)(1) of this AD. Make an entry into the aircraft records showing compliance with this portion of the AD following section 43.9 of the Federal Aviation Regulations (14 CFR 43.9).
(2) Dispose of the life-limited airframe (wing, fuselage, empennage, and associated structure) following 14 CFR 43.10 when the limit of the structural life of the airframe is reached | Upon the accumulation of 4,500 hours TIS on the airframe (wing, fuselage, empennage, or associated structure) or prior to further flight, whichever occurs later, unless already done | Follow section 43.10 of the Federal Aviation Regulations (14 CFR 43.10).
(3) Do not operate any Models 58P and 58TC airplanes (with any serial number noted in paragraph (c) of this AD0 upon the accumulation of 4,500 hours TIS on the airframe (wing, fuselage, empennage, or associated structure) | As of the effective date of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Steven E. Potter, Aerospace Engineer, Wichita ACO, FAA, 1801 Airport Road, Wichita, Kansas 67209; telephone: (316) 946-4124; facsimile: (316) 946-4107.

May I Get Copies of the Documents Referenced in This AD?

(g) To get copies of the documents referenced in this AD, contact Raytheon Aircraft Company, P.O. Box 85, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2005-21175; Directorate Identifier 2005-CE-24-AD.

Issued in Kansas City, Missouri, on November 16, 2005.
David R. Showers,
Acting Manager, Small Airplane Directorate, Aircraft Certification Service.

[FR Doc. 05-23055 Filed 11-21-05; 8:45 am]

BILLING CODE 4910-13-P